FEDERAL COMMUNICATIONS COMMISSION

47 CFR Part 1

[MD Docket No. 08-65; FCC 09-38]

Assessment and Collection of Regulatory Fees for Fiscal Year 2008

AGENCY: Federal Communications Commission.

ACTION: Final rule.

SUMMARY: In this document, pursuant to section 9(b)(3) of the Communications Act, we eliminate two international regulatory fee categories from our Schedule of Regulatory Fees—International Public Fixed and International High Frequency (HF) Broadcast Stations.

DATES: Effective August 18, 2009, which is 90 days from the date of notification to Congress pursuant to section 9(b)(3) of the Communications Act.

FOR FURTHER INFORMATION CONTACT: Daniel Daly, Office of Managing Director at (202) 418-1832.

SUPPLEMENTARY INFORMATION: This is a summary of the Commission's Order, MD Docket 08-65, FCC 09-38, adopted on May 11, 2009 and released on May 14, 2009. The full text of this document is available on the Commission's Internet site at http://www.fcc.gov. It is also available for inspection and copying during regular business hours in the FCC Reference Center (Room CY-A257), 445 12th St., SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM. The Commission will send a copy of this Order to Congress and the Government Accountability Office pursuant to the Congressional Review Act, see 5 U.S.C. 801(a)(1)(A).

Summary of the Report and Order

1. In our FY 2008 Report and Order,¹ we sought comment on eliminating several categories of services from our schedule of regulatory fees.² We received no comments on these proposals. For the reasons set forth below, we eliminate the regulatory fee categories for International Public Fixed Radio ³ and International High Frequency Broadcast Stations.⁴

¹ See Assessment and Collection of Regulatory Fees for Fiscal Year 2008, MD Docket No. 08-65, Report and Order and Further Notice of Proposed Rulemaking, 24 FCC Rcd 6389 (2008) (“FY 2008 Report and Order”).

² In this Order, we adopted only the proposals concerning International Fixed Public Radio and International High Frequency Broadcast Stations raised in paragraphs 55 and 56 in the Further Notice of Proposed Rulemaking in the FY 2008 Report and Order. The remaining outstanding matters stemming from the August 8, 2008 Further Notice of Proposed Rulemaking may, however, be decided at a later time in a separate Report and Order. See FY 2008 Report and Order.

³ See 47 CFR Part 23.

⁴ See 47 CFR Part 73, Subpart F.

2. There is only one licensee in the International Public Fixed Radio category. In the FY 2008 Report and Order we stated that we did not expect any additional licensees or applications in this fee category, and that this category did not generate any regulatory fee revenue for the Commission in FY 2008.⁵ As a result, we proposed in our FY 2008 Report and Order to eliminate this category from our schedule of regulatory fees in order to reduce the administrative burden on the Commission in assessing this regulatory fee category.⁶ We received no comments on this issue. We, therefore, eliminate this category from the regulatory fee schedule.

⁵ FY 2008 Report and Order at paragraph 55.

⁶ FY 2008 Report and Order at paragraph 55.

3. There are only 25 licensed stations in the International High Frequency Broadcast Stations category. In FY 2008, two entities made payments in this fee category totaling $1,720. In the FY 2008 Report and Order we observed that most of these licensees are tax-exempt organizations (and exempt from paying regulatory fees), and as a result, we proposed to eliminate this category from our schedule of regulatory fees in order to reduce the administrative burden on the Commission.⁷ We did not receive any comments on this issue. We, therefore, eliminate this category from the regulatory fee schedule.

⁷ FY 2008 Report and Order at paragraph 56.

4. Pursuant to section 9(b)(3) of the Act, we eliminate the International Public Fixed Radio and International High Frequency Broadcast Station fee categories from our schedule of regulatory fees.⁸ Section 9(b)(4)(B) of the Act requires us to notify Congress 90 days before the effective date of this rule change.⁹ In letters dated May 20, 2009, we provided Congress notification of this Order. These permitted amendments to our fee schedule will become effective on August 18, 2009, which is 90 days after notification to Congress, if there is no Congressional objection.

⁸ 47 U.S.C. 159(b)(3).

⁹ 47 U.S.C. 159(b)(4)(B).

5. A final regulatory flexibility certification for the changes adopted in the Order herein is contained below. The Commission will send a copy of the Order, including the final regulatory flexibility certification, to the Chief Counsel for Advocacy of the Small Business Administration.

Final Regulatory Flexibility Certification

6. The Regulatory Flexibility Act of 1980, as amended (RFA) ¹⁰ requires that a regulatory flexibility analysis be prepared for rulemaking proceedings, unless the agency certifies that “the rule will not have a significant economic impact on a substantial number of small entities.” ¹¹ The RFA generally defines “small entity” as having the same meaning as the terms “small business,” “small organization,” and “small governmental jurisdiction.” ¹² In addition, the term “small business” has the same meaning as the term “small business concern” under the Small Business Act.¹³ A small business concern is one which: (1) Is independently owned and operated; (2) is not dominant in its field of operation; and (3) satisfies any additional criteria established by the Small Business Administration (SBA).¹⁴

¹⁰ The RFA, see 5 U.S.C. 601 et seq. has been amended by the Contract With America Advancement Act of 1996, Public Law 104-121, 110 Stat. 847 (1996) (CWAAA). Title II of the CWAAA is the Small Business Regulatory Enforcement Fairness Act of 1996 (SBREFA).

¹¹ 5 U.S.C. 605(b).

¹² 5 U.S.C. 601(6).

¹³ 5 U.S.C. 601(3) (incorporating by reference the definition of “small business concern” in Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

¹⁴ Small Business Act, 15 U.S.C. 632.

7. As required by the RFA,¹⁵ an Initial Regulatory Flexibility Analysis (IRFA) was incorporated in the Commission's Further Notice of Proposed Rulemaking.¹⁶ The Commission sought written public comment on the proposals in the Further Notice of Proposed Rulemaking, including comment on the IRFA.

¹⁵ See 5 U.S.C. 603. The RFA, see 5 U.S.C. 601-612, has been amended by the Small Business Regulatory Enforcement Fairness Act of 1996 (SBREFA), Public Law 104-121, Title II, 110 Stat. 857 (1996).

¹⁶ See Assessment and Collection of Regulatory Fees for Fiscal Year 2008, MD Docket No. 08-65, Report and Order and Further Notice of Proposed Rulemaking, 24 FCC Rcd 6389 (2008) (“FY 2008 Report and Order”) at Appendix B.

8. In our Further Notice of Proposed Rulemaking we sought comment on eliminating several categories of services from our schedule of regulatory fees. We received no comments on these proposals. For the reasons set forth below, in the Order contained herein, we eliminate the regulatory fee categories for International Public Fixed Radio ¹⁷ and International High Frequency Broadcast Stations.¹⁸ There is only one licensee in the International Public Fixed Radio category. In the Further Notice of Proposed Rulemaking we stated that we did not expect any additional licensees or applications in this category, and it did not generate any regulatory fee revenue for the Commission in FY 2008.¹⁹ Eliminating this category from our schedule of regulatory fees will not have not have a significant economic impact on a substantial number of small entities. In the International High Frequency Broadcast Stations category, there are only 25 licensed stations. In the Further Notice of Proposed Rulemaking we observed that most of these licensees are tax-exempt organizations that are exempt from payment of regulatory fees.²⁰ In FY 2008, two entities made payments in this fee category; those payments totaled $1,720. Eliminating this category from our schedule of regulatory fees will not have not have a significant economic impact on a substantial number of small entities.

¹⁷ See 47 CFR Part 23.

¹⁸ See 47 CFR Part 73, Subpart F.

¹⁹ FY 2008 Report and Order at paragraph 55.

²⁰ FY 2008 Report and Order at paragraph 56.

9. Certification: Therefore, we certify that the requirements of this Order will not have a significant economic impact on a substantial number of small entities.

10. Report to Small Business Administration: The Commission will send a copy of this Order, including a copy of the Final Regulatory Flexibility Certification to the Chief Counsel for Advocacy of the Small Business Administration. The Order and Final Regulatory Flexibility Certification (or summaries thereof) will also be published in the Federal Register.

11. Report to Congress: The Commission will send a copy of this Final Regulatory Flexibility Certification, along with this Order, in a report to Congress pursuant to the Congressional Review Act, 5 U.S.C. 801(a)(1)(A).

Ordering Clauses

12. Accordingly, it is ordered that, pursuant to sections 4(i) and (j), 9, and 303(r) of the Communications Act of 1934, as amended, 47 U.S.C. 154(i), 154(j), 159, and 303(r), this Order is hereby adopted.

13. It is further ordered that Part 1 of the Commission's rules are amended as set forth herein, and these rules shall become effective 90 days after Congressional notification.

14. It is further ordered that the Commission's Consumer and Governmental Affairs Bureau, Reference Information Center, shall send a copy of this Order, including the Final Regulatory Flexibility Certification, to the Chief Counsel for Advocacy of the U.S. Small Business Administration.

List of Subjects in 47 CFR Part 1

Administrative practice and procedure.

Federal Communications Commission.
Marlene H. Dortch,
Secretary.

Rule Changes

For the reasons discussed in the preamble, the Federal Communications Commission amends 47 CFR part 1 to read as follows:

PART 1—PRACTICE AND PROCEDURE

1. The authority citation for Part 1 continues to read as follows:

Authority: 15 U.S.C. 79 et seq.; 47 U.S.C. 151, 154(i), 154(j), 155, 157, 225, 303(r), and 309.

2. Section 1.1156(a) is revised to read as follows:

§ 1.1156 Schedule of regulatory fees and filing locations for International Services.

(a) The following schedule applies for the listed services:

| Fee amount | Address
(1) Space Stations (Geostationary Orbit) |  | FCC, Space Stations.
(2) Space Stations (Non-Geostationary Orbit) |  | FCC, Space Stations.
(3) Earth Stations: Transmit/Receive & Transmit only (per authorization or registration) |  | FCC, Earth Station.

* * * * *

[FR Doc. E9-17813 Filed 7-24-09; 8:45 am]

BILLING CODE 6712-01-P